DEPARTMENT OF COMMERCE

National Oceanic and Atmospheric Administration

50 CFR Part 660

[Docket No. 040429134-4135-01; I.D. 083004B]

Fisheries Off West Coast States and in the Western Pacific; West Coast Salmon Fisheries; Inseason Action #10 - Adjustments of the Recreational Fishery from the U.S.-Canada Border to Cape Falcon, Oregon

AGENCY: National Marine Fisheries Service (NMFS), National Oceanic and Atmospheric Administration (NOAA), Commerce.

ACTION: Modification of fishing seasons; request for comments.

SUMMARY: NMFS announces two regulatory modifications, and a reallocation of the coho quota, in the recreational fishery from the U.S.-Canada Border to Cape Falcon, OR. Effective Friday, August 13, 2004, regulations for the area from Cape Alava, WA to Cape Falcon, OR (La Push, Westport, and Columbia River Subareas) were modified to have a minimum size limit for chinook of 24 inches (61.0 cm) total length; and for the area from Cape Alava to Queets River, WA (La Push Subarea) the daily bag limit was modified to: “all salmon, two fish per day, and all retained coho must have a healed adipose fin clip,” thus allowing for the retention of two chinook per day. In addition, 40,000 coho were reallocated from Queets River to Leadbetter Point, WA (Westport Subarea) quota, by transferring the coho on an impact neutral basis, to the coho quota in the subarea from the U.S.-Canada Border to Cape Alava, WA (Neah Bay Subarea), which increased the Neah Bay quota by 6,600 coho. These actions were necessary to conform to the 2004 management goals. The intended effect of these actions was to allow the fishery to operate within the seasons and quotas specified in the 2004 annual management measures.

DATES: Effective 0001 hours local time (l.t.), August 13, 2004, until the chinook quota or coho quota are taken, or 2359 hours l.t., September 30, 2004, which ever is earlier; after which the fishery will remain closed until opened through an additional inseason action for the west coast salmon fisheries, which will be published in the Federal Register, or until the effective date of the next scheduled open period announced in the 2005 annual management measures. Comments will be accepted through September 22, 2004.

ADDRESSES: Comments on these actions must be mailed to D. Robert Lohn, Regional Administrator, Northwest Region, NMFS, NOAA, 7600 Sand Point Way N.E., Bldg. 1, Seattle, WA 98115-0070; or faxed to 206-526-6376; or Rod McInnis, Regional Administrator, Southwest Region, NMFS, NOAA, 501 W. Ocean Blvd., Suite 4200, Long Beach, CA 90802-4132; or faxed to 562-980-4018. Comments can also be submitted via e-mail at the 2004salmonIA10.nwr@noaa.gov address, or through the internet at the Federal eRulemaking Portal: http://www.regulations.gov. Follow the instructions for submitting comments, and include [docket number and/or RIN number] in the subject line of the message. Information relevant to this document is available for public review during business hours at the Office of the Regional Administrator, Northwest Region, NMFS.

FOR FURTHER INFORMATION CONTACT: Christopher Wright, 206-526-6140.

SUPPLEMENTARY INFORMATION: The NMFS Regional Administrator (RA) has adjusted the recreational fishery from the U.S.-Canada Border to Cape Falcon, OR with two regulatory modifications, and also reallocated the coho quota among two subareas. Effective Friday, August 13, 2004, regulations in the area from Cape Alava, WA to Cape Falcon, OR, (La Push, Westport, and Columbia River Subareas) were modified to have a minimum size limit for chinook of 24 inches (61.0 cm) total length; and for the area from Cape Alava to Queets River, WA (La Push Subarea) the daily bag limit was modified to: “all salmon, two fish per day, and all retained coho must have a healed adipose fin clip,” thus allowing for the retention of two chinook per day. In addition, 40,000 coho were reallocated from Queets River to Leadbetter Point, WA (Westport Subarea) quota, by transferring the coho on an impact neutral basis, to the coho quota in the subarea from the U.S.-Canada Border to Cape Alava, WA (Neah Bay Subarea), which increased the Neah Bay quota by 6,600 coho. On August 10, 2004, the Regional Administrator had determined the available catch and effort data indicated that the catch was less than anticipated preseason and that provisions designed to slow the catch of chinook could be modified. In addition, the Neah Bay subarea was projected to reach its coho quota, and because there were additional coho in the Westport subarea quota, a reallocation of the North of Cape Falcon overall quota could be done while still meeting conservation objectives and without impacting Westport subarea fishers.

All other restrictions remain in effect as announced for 2004 ocean salmon fisheries and previous inseason actions. These actions were necessary to conform to the 2004 management goals. Modification of the species that may be caught and landed during specific seasons and the establishment or modification of limited retention regulations are authorized by regulations at 50 CFR 660.409(b)(1)(ii). Modification of recreational bag limits is authorized by regulations at 50 CFR 660.409(b)(1)(iii). Modification of quotas and/or fishing seasons is authorized by regulations at 50 CFR 660.409(b)(1)(i).

In the 2004 annual management measures for ocean salmon fisheries (69 FR 25026, May 5, 2004), NMFS announced the recreational fisheries: the area from the U.S.-Canada Border to Cape Alava, WA (Neah Bay Subarea) would open June 27 through the earlier of September 19 or a 21,050-coho subarea quota, with a subarea guideline of 3,700 chinook; the area from Cape Alava to Queets River, WA (La Push Subarea) would open June 27 through the earlier of September 19 or a 5,200 coho subarea quota, with a subarea guideline of 1,900 chinook; in the area from the Queets River to Leadbetter Point, WA (Westport Subarea) would open June 27 through the earlier of September 19 or a 74,900 coho subarea quota, with a subarea guideline of 30,800 chinook; and the area from Leadbetter Point, WA to Cape Falcon, OR (Columbia River Subarea) would open June 27 through the earlier of September 30 or a 101,250-coho subarea quota, with a subarea guideline of 8,000 chinook. All subareas were restricted to a chinook minimum size limit of 26 inches (66.0 cm) total length. In addition, all of the subarea bag limits were for all salmon, two fish per day, no more than one of which may be a chinook, with all retained coho required to have a healed adipose fin clip.

The recreational fishery in the area from the Queets River, WA to Cape Falcon, OR (Westport and Columbia River Subareaa) was modified by Inseason Action #7 to be open 7 days per week, with a modified daily bag limit of all salmon, two fish per day, and all retained coho must have a healed adipose fin clip, effective Friday, July 23, 2004, thus allowing for the retention of two chinook per day (69 FR 52448, August 26, 2004,).

On August 10, 2004, the RA consulted with representatives of the Pacific Fishery Management Council, Washington Department of Fish and Wildlife, and Oregon Department of Fish and Wildlife by conference call. Information related to catch to date, the chinook and coho catch rates, and effort data indicated that the catch was less than anticipated preseason and that provisions designed to slow the catch of chinook could be modified, by relaxing the size and bag limit provisions. In addition, the Neah Bay subarea was projected to reach its coho quota, and because there were additional coho in the Westport subarea quota, a reallocation of the North of Cape Falcon overall quota could be done while still meeting conservation objectives and without impacting Westport subarea fishers. As a result, on August 10, 2004, the states recommended, and the RA concurred, that effective Friday, August 13, 2004, the recreational fishery from the U.S.-Canada Border to Cape Falcon, OR would be adjusted by the following: Regulations for the area from Cape Alava, WA to Cape Falcon, OR (La Push, Westport, and Columbia River Subareas) would be modified to have a minimum size limit for chinook of 24 inches (61.0 cm) total length; and the daily bag limit for the area from Cape Alava to Queets River, WA (La Push Subarea) would be modified to: “all salmon, two fish per day, and all retained coho must have a healed adipose fin clip,” thus allowing for the retention of two chinook per day. In addition, 40,000 coho from Queets River to Leadbetter Point, WA (Westport Subarea) quota would be transferred on an impact neutral basis to the coho quota in the area from the U.S.-Canada Border to Cape Alava, WA (Neah Bay Subarea), thereby increasing the Neah Bay quota by 6,600 coho. All other restrictions that apply to this fishery remain in effect as announced in the 2004 annual management measures and previous inseason actions.

The RA determined that the best available information indicated that the catch and effort data, and projections, supported the above inseason actions recommended by the states. The states manage the fisheries in state waters adjacent to the areas of the U.S. exclusive economic zone in accordance with these Federal actions. As provided by the inseason notice procedures of 50 CFR 660.411, actual notice to fishers of the already described regulatory actions were given, prior to the date the action was effective, by telephone hotline number 206-526-6667 and 800-662-9825, and by U.S. Coast Guard Notice to Mariners broadcasts on Channel 16 VHF-FM and 2182 kHz.

These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions were provided to fishers through telephone hotline and radio notification. These actions comply with the requirements of the annual management measures for ocean salmon fisheries (69 FR 25026, May 5, 2004), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would limit fishers appropriately controlled access to available fish during the scheduled fishing season by unnecessarily maintaining two restrictions. The action reduced the minimum size limit for chinook to 24 inches (61.0 cm) total length, which allowed for greater chinook salmon retention. The action also allowed fishers to land up to two of any species of salmon, previously only one of the two fish bag limit could be a chinook salmon.

These actions are authorized by 50 CFR 660.409 and 660.411 and are exempt from review under Executive Order 12866.

Authority: 16 U.S.C. 1801 et seq.

Dated: August 31, 2004.
Bruce C. Morehead,
Acting Director, Office of Sustainable Fisheries, National Marine Fisheries Service.

[FR Doc. 04-20235 Filed 9-3-04; 8:45 am]

BILLING CODE 3510-22-S